EQUAL EMPLOYMENT OPPORTUNITY COMMISSION

29 CFR Parts 1601, 1603, 1605, 1610, 1611, 1612, 1614, 1615, 1621 and 1626

RIN 3046-AA86

Change of Address for Headquarters and Washington Field Office

AGENCY: Equal Employment Opportunity Commission.

ACTION: Final rule.

SUMMARY: This final rule amends existing EEOC regulations by changing two office addresses and one post office box.

DATES: Effective Date: January 21, 2009.

FOR FURTHER INFORMATION CONTACT: Thomas J. Schlageter, Assistant Legal Counsel, (202) 663-4668, or Erin N. Norris, Attorney, (202) 663-4876, Office of Legal Counsel, 131 M St., NE., Washington, DC 20507. Copies of this final rule are available in the following alternate formats: Large print, braille, electronic computer disk, and audio-tape. Requests for this notice in an alternative formal should be made to the Publications Center at 1-800-699-3362 (voice), 1-800-800-3302 (TTY), or 703-821-2098 (FAX—this is not a toll free number).

SUPPLEMENTARY INFORMATION: In November and December of 2008, the Commission's Headquarters relocated from 1801 L Street, NW., Washington, DC 20507 to 131 M Street, NE., Washington, DC 20507, and the Commission's Washington Field Office relocated from 1801 L Street, NW., Suite 100, Washington, DC 20507 to 131 M Street, NE., Fourth Floor, Suite 4NW02F, Washington, DC 20507. Telephone numbers for Commission employees have not changed. In addition, the Commission's Office of Federal Operations began using a new post office box effective December 1, 2008: P.O. Box 77960, Washington, DC 20013. The previous post office box address will remain in effect temporarily, but individuals wishing to file appeals, petitions, notice, etc. under 29 CFR Parts 1603 and 1614 with the Office of Federal Operations via mail should begin using the new post office box address now. This Final Rule modifies 29 CFR Parts 1601, 1603, 1605, 1610, 1611, 1612, 1614, 1615, 1621, and 1626 to reflect the change of address.

Regulatory Procedures

Executive Order 12866

This action pertains to agency organization, management or personnel matters and therefore is not a rule within the meaning of section 3(d)(3) of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because it does not affect any small business entities. The regulation affects only the Equal Employment Opportunity Commission. For this reason, a regulatory flexibility analysis is not required.

Unfunded Mandates Reform Act of 1995

This final rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action pertains to the Commission's management, personnel and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Parts 1601, 1603, 1605, 1610, 1611, 1612, 1614, 1615, 1621, 1626

Administrative practice and procedure, Equal Employment Opportunity.

For the Commission.
Dated: January 13, 2009.
Naomi C. Earp,
Chair.

Accordingly, the Equal Employment Opportunity Commission amends 29 CFR parts 1601, 1603, 1605, 1610, 1611, 1612, 1614, 1615, 1621, and 1626 as follows:

PART 1601—PROCEDURAL REGULATIONS

1. The authority citation for Part 1601 continues to read as follows:

Authority: 42 U.S.C. 2000e to 2000e-17; 42 U.S.C. 12111 to 12117.

§§ 1601.16, 1601.35, and 1601.92 [Amended]

2. Amend §§ 1601.16(b)(1), 1601.35, and 1601.92 by removing the text “1801 L Street, NW.” and adding, in its place, the text “131 M Street, NE.” wherever it may occur.

PART 1603—PROCEDURES FOR PREVIOUSLY EXEMPT STATE AND LOCAL GOVERNMENT EMPLOYEE COMPLAINTS OF EMPLOYMENT DISCRIMINATION UNDER SECTION 321 OF THE GOVERNMENT EMPLOYEE RIGHTS ACT OF 1991

3. The authority citation for part 1603 continues to read as follows:

Authority: 42 U.S.C. 2000e-16c.

§ 1603.302 [Amended]

Amend § 1603.302(b) by removing the text “P.O. Box 19848, Washington, DC 20036” and adding, in its place, the text “P.O. Box 77960, Washington, DC 20013”.

PART 1605—GUIDELINES ON DISCRIMINATION BECAUSE OF RELIGION

5. The authority citation for part 1605 continues to read as follows:

Authority: Title VII of the Civil Rights Act of 1964, as amended, 42 U.S.C. 2000e et seq.

Appendix A to §§ 1605.2 and 1605.3 [Amended]

6. Amend footnote 5 to appendix A to §§ 1605.2 and 1605.3 by removing the text “2401 E Street NW., Washington, DC 20506” and adding, in its place, the text “131 M Street, NE., Washington, DC 20507”.

PART 1610—AVAILABILITY OF RECORDS

7. The authority citation for part 1610 continues to read as follows:

Authority: 42 U.S.C. 2000e-12(a), 5 U.S.C. 552 as amended by Public Law 93-502, Public Law 99-570, and Public Law 105-231; for § 1610.15, non-search or copy portions are issued under 31 U.S.C. 9701.

§§ 1610.4, 1610.7, and 1610.11 [Amended]

8. a. Amend sections 1610.4(a), 1610.7(b), and 1610.11(a) by removing the text “1801 L Street, NW.” and adding, in its place, the text “131 M Street, NE.”

b. Amend section 1610.4(c), in the entry for “Washington Field Office,” by removing the text “1801 L Street, NW., Suite 100” and adding, in its place, the text “131 M Street, NE., Fourth Floor, Suite 4NW02F”.

PART 1611—PRIVACY ACT REGULATIONS

9. The authority citation for part 1611 continues to read as follows:

Authority: 5 U.S.C. 552a.

§§ 1611.3, 1611.5, and 1611.9 [Amended]

10. Amend sections 1611.3(b)(1), (2), (3), and (4), 1611.5(c), and 1611.9(a) by removing the text “1801 L Street, NW.” and adding, in its place, the text “131 M Street, NE.”

PART 1612—GOVERNMENT IN THE SUNSHINE ACT REGULATIONS

11. The authority citation for part 1612 continues to read as follows:

Authority: 5 U.S.C. 552b, sec. 713, 78 Stat. 265; 42 U.S.C. 2000e-12.

§ 1612.6 [Amended]

12. Amend section 1612.6(b) by removing the text “2401 E Street, NW., Washington, DC, 20506” and adding, in its place, the text “131 M Street, NE., Washington, DC 20507.”

§ 1612.7 [Amended]

13. Amend section 1612.7(a) by removing the text “1801 L Street, NW.” and adding, in its place, the text “131 M Street, NE.”

PART 1614—FEDERAL SECTOR EQUAL EMPLOYMENT OPPORTUNITY

14. The authority citation for part 1614 continues to read as follows:

Authority: 29 U.S.C. 206(d), 633a, 791 and 794a; 42 U.S.C. 2000e-16; E.O. 10577, 3 CFR 1954-1958 Comp., p. 218; E.O. 11222, 3 CFR 1964-1965 Comp., p. 306; E.O. 11478, 3 CFR 1969 Comp., p. 133; E.O. 12106, 3 CFR 1978 Comp., p. 263; Reorg. Plan No. 1 of 1978, 3 CFR 1978 Comp., p. 321.

§§ 1614.201, 1614.303, 1614.403 [Amended]

15. Amend sections 1614.201(a), 1614.303(b), and 1614.403(a) by removing the text “P.O. Box 19848, Washington, DC 20036” and adding, in its place, the text “P.O. Box 77960, Washington, DC 20013”.

PART 1615—ENFORCEMENT OF NONDISCRIMINATION ON THE BASIS OF HANDICAP IN PROGRAMS OR ACTIVITIES CONDUCTED BY THE EQUAL EMPLOYMENT OPPORTUNITY COMMISSION

16. The authority citation for part 1615 continues to read as follows:

Authority: 29 U.S.C. 794.

§ 1615.170 [Amended]

17. Amend sections 1615.170(d)(2) and (i) by removing the text “1801 `L' Street NW.” and adding, in its place, the text “131 M Street, NE.”

PART 1621—PROCEDURES—THE EQUAL PAY ACT

18. The authority citation for part 1621 continues to read as follows:

Authority: Secs. 1-19, 52 Stat. 1060, as amended, secs. 10-16, 61 Stat. 84, Public Law 88-38, 77 Stat. 56 (29 U.S.C. 201 et seq.); sec. 1, Reorgan. Plan No. 1 of 1978, 43 FR 19807; E.O. 12144, 44 FR 37193.

§ 1621.3 [Amended]

19. Amend section 1621.3(a) by removing the text “1801 L Street, NW.” and adding, in its place, the text “131 M Street, NE.”

PART 1626—PROCEDURES—AGE DISCRIMINATION IN EMPLOYMENT ACT

20. The authority citation for part 1626 continues to read as follows:

Authority: Sec. 9, 81 Stat. 605, 29 U.S.C. 628; sec. 2, Reorgan. Plan No. 1 of 1978, 3 CFR, 1978 Comp., p. 321.

§ 1626.20 [Amended]

21. Amend section 1626.20(a) by removing the text “1801 L Street NW.” and adding, in its place, the text “131 M Street, NE.”

[FR Doc. E9-1166 Filed 1-16-09; 8:45 am]

BILLING CODE 6570-01-P